FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 010979-050.

Title: Caribbean Shipowners Association.

Parties: CMA CGM, S.A.; Seaboard Marine, Ltd.; Seafreight Line, Ltd.; and Zim Integrated Shipping Services, Ltd.

Filing Party: Wayne R. Rohde, Esq.; Cozen O'Connor, 1627 I Street NW.; Washington, DC 20006.

Synopsis: The amendment removes Bernuth Lines, Ltd. and Crowley Liner Services/Crowley Caribbean Services, LLC as parties to the agreement.

Agreement No.: 011953-012.

Title: Florida Shipowners Group Agreement.

Parties: The member lines of the Caribbean Shipowners Association and the Florida-Bahamas Shipowners and Operators Association.

Filing Party: Wayne Rohde, Esq.; Cozen O'Connor; 1627 I Street, NW; Suite 1100; Washington, DC 20006.

Synopsis: The amendment reflects the resignation of Bernuth Lines, Ltd. and Crowley Liner Services, Inc./Crowley Caribbean Services, LLC as parties to the Caribbean Shipowners Association.

Agreement No.: 011960-008.

Title: The New World Alliance Agreement.

Parties: American President Lines, Ltd.; APL Co. Pte, Ltd.; Hyundai Merchant Marine Co., Ltd.; and Mitsui O.S.K. Lines, Ltd. (“MOL”).

Filing Parties: Eric Jeffrey, Esq., Goodwin Proctor LLP, 901 New York Ave. NW., Washington, DC 20001.

Synopsis: The amendment would extend the terms of the agreement through March 1, 2016, add principles for allocating capacity, clarify the provisions regarding compliance with laws, and update and clarify other aspects of the agreement.

Agreement No.: 012073-002.

Title: MSC/CSAV Group Vessel Sharing Agreement.

Parties: MSC Mediterranean Shipping Company SA; Compaňia Sud Americana de Vapores S.A.; Companhia Libra de Navegacao; and Compania Libra de Navegacion Uruguay S.A..

Filing Party: Wayne R. Rohde, Esq.; Cozen O'Connor; 1627 I Street, NW; Suite 1100; Washington, DC 20006-4007.

Synopsis: The amendment would add Jamaica to the scope of the agreement, increase the size of the vessels that can be deployed under the agreement and revise the parties' space allocations accordingly, add language temporarily adjusting the provision of the vessels, and update the addresses of some of the parties.

By Order of the Federal Maritime Commission.
Dated: October 26, 2012.
Karen V. Gregory,
Secretary.

[FR Doc. 2012-26717 Filed 10-30-12; 8:45 am]

BILLING CODE 6730-01-P